AGENCY FOR INTERNATIONAL DEVELOPMENT

Comment Request and Notice of Public Meeting for Programmatic Environmental Assessment (PEA) for Malaria Vector Control Interventions

AGENCY: Agency for International Development.

ACTION: Comment request and notice of public meeting.

SUMMARY: In compliance with 22 CFR part 216, USAID is conducting a “Programmatic Environmental Assessment (PEA) for Malaria Vector Control Interventions.” This Assessment is intended to serve as a general evaluation of human health and environmental issues related to the use of certain mosquito control methods that contribute to malaria prevention and control. USAID provides financial and technical support for the use of such methods as part of national malaria control programs in USAID-assisted countries and, therefore, must conduct this Program Environmental Assessment to evaluate the potential health and environmental consequences of these agency actions. The Program Environmental Assessment will also provide guidance to USAID Missions on preparing country- and activity-specific Supplemental Environmental Assessments, which will be conducted on major individual actions that may have significant environmental impacts where such impacts have not been adequately evaluated in the Program Environmental Assessment. The PEA is intended to facilitate USAID's use of these interventions while meeting safety and efficacy guidelines.

The Program Environmental Assessment will address Indoor Residual Spraying (IRS), Environmental Management and Larviciding. The content of the Assessment will include the following: Background on Malaria and Malaria Vector Control; Proposed Actions and Alternatives; Affected Environment; Human Health and Environmental Consequences; Mitigation, Monitoring and Evaluation; Regulatory, Legal and Institutional Settings; Training and Institutional Capacity Building; and Cross-Cutting Issues.

USAID requests that members of the public review the Assessment and provide comments via the electronic format described below. USAID will also hold a public meeting to receive comments on the content of the Assessment.

DATES: The Assessment will be available for public review on or about March 22, 2006. USAID will consider all comments received on or before April 14, 2006. A public meeting on the document will be held on March 29, 2006 at 1 p.m.

ADDRESSES: The Assessment may be viewed on the Web at http://www.fightingmalaria.gov. All comments must be submitted either via e-mail (IVMPEA@usaid.gov) or in person at the public meeting. The public meeting location is the USAID Public Information Center, Suite M1, Mezzanine Level, Ronald Reagan Building, 1300 Pennsylvania Avenue, NW., Washington DC. Note: Photo identification is required for entry into the Ronald Reagan Building).

FOR FURTHER INFORMATION CONTACT: Matthew Lynch, Malaria Advisor, USAID Washington RRB 3.07-024 3700; telephone number: 202-712-6044; e-mail address: mlynch@usaid.gov.

SUPPLEMENTARY INFORMATION: Although USAID supports the use of Insecticide Treated Nets (ITNs) for malaria control, the Assessment does not address distribution of ITNs. This intervention is considered in a separate, previously completed assessment, entitled “Programmatic Environmental Assessment for Insecticide-Treated Materials in USAID Activities in Sub-Saharan Africa”, available at http://www.encapafrica.org/docs/pest-pesticide%20mgmt/ITM%20PEA.DOC.

Dated: March 14, 2006.
Irene Koek,
Infectious Diseases Division Chief.

[FR Doc. E6-3972 Filed 3-17-06; 8:45 am]

BILLING CODE 6116-01-P